DEPARTMENT OF COMMERCE

International Trade Administration

[A-570-979]

Crystalline Silicon Photovoltaic Cells, Whether or Not Assembled Into Modules, From the People's Republic of China: Final Results and Final Partial Rescission of Antidumping Duty Administrative Review; and Final Determination of No Shipments; 2021-2022; Correction

AGENCY: Enforcement and Compliance, International Trade Administration, Department of Commerce.

ACTION: Notice; correction.

SUMMARY: The U.S. Department of Commerce (Commerce) published in the Federal Register of July 5, 2024, notice of the final results of the 2021-2022 administrative review of the antidumping duty (AD) order on crystalline silicon photovoltaic cells, whether or not assembled into modules (solar cells), from the People's Republic of China (China). In that notice, Commerce incorrectly identified the companies which it found were not entitled to a separate rate.

FOR FURTHER INFORMATION CONTACT: Dakota Potts or Paola Aleman Ordaz, AD/CVD Operations, Office IV, Enforcement and Compliance, International Trade Administration, U.S. Department of Commerce, 1401 Constitution Avenue NW, Washington, DC 20230; telephone: (202) 482-0223 and (202) 482-4031, respectively.

SUPPLEMENTARY INFORMATION:

Background

On July 5, 2024, Commerce published in the Federal Register notice of the final results of the 2021-2022 administrative review of the AD order on solar cells from China.¹ In that notice, Commerce incorrectly identified the companies which it found were not entitled to a separate rate. Commerce preliminarily found that only four companies did not qualify for a separate rate.² Commerce did not change that determination in the final results of the review. Yet, in the final results of review Federal Register notice, Commerce inadvertently stated that: {i}n the Preliminary Results, Commerce found that 35 companies for which a review was initiated did not establish their eligibility for a separate rate. No parties contested this finding (see discussion regarding the Yingli single entity below). As such, we continue to determine these 35 companies identified in Appendix III are part of the China-wide entity.³

¹ See Crystalline Silicon Photovoltaic Cells, Whether or Not Assembled into Modules, from the People's Republic of China: Final Results and Final Partial Rescission of Antidumping Duty Administrative Review; and Final Determination of No Shipments; 2021-2022, 89 FR 55562 (July 5, 2024) (Final Results).

² See Crystalline Silicon Photovoltaic Cells, Whether or Not Assembled Into Modules, from the People's Republic of China: Preliminary Results of Antidumping Duty Administrative Review, Partial Rescission of Antidumping Administrative Review, and Preliminary Determination of No Shipments; 2021-2022, 89 FR 457, 458-59 (January 4, 2024) (Preliminary Results), and accompanying Preliminary Decision Memorandum.

³ See Final Results, 89 FR at 55563.

In the Preliminary Results, Commerce did not determine that the 31 companies that it incorrectly added to Appendix III of the Final Results are ineligible for a separate rate. Rather, in the Preliminary Results, Commerce determined that the 31 companies did not have suspended entries of subject merchandise during the period of review (POR).⁴ Commerce did not change its preliminary decision with respect to these 31 companies in the final results of review. Therefore, the following corrections are required.

⁴ See Preliminary Results, 89 FR at 4548.

Correction

In the Federal Register of July 5, 2024, in FR Doc 2024-14763, on page 55563, in the first column, under the heading “China-Wide Entity,” correct the first sentence to read: “In the Preliminary Results, Commerce found that four companies for which a review was initiated did not establish their eligibility for a separate rate.” ⁵ In addition, on page 55563, in the first column, under the heading “China-Wide Entity,” correct the third sentence to read: “As such, we continue to determine these four companies identified in Appendix III are part of the China-wide entity.” Further, on page 55564, in the third column, under the heading “Appendix III Companies Determined To Be Part of the China-Wide Entity,” correct the list to include only the following companies:

1. Anji DaSol Solar Energy Science & Technology Co., Ltd.

2. Maodi Solar Technology (Dongguan) Co., Ltd.

3. Shenzhen Yingli New Energy Resources Co., Ltd.; Baoding Jiasheng Photovoltaic Technology Co. Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; and Yingli Energy (China) Company Limited (Yingli Energy China).

4. Wuxi Suntech Power Co., Ltd.

Notification to Interested Parties

This notice is issued and published in accordance with sections 751(a)(1) and 777(i) of the Tariff Act of 1930, as amended, and 19 CFR 351.213(h)(2) and 19 CFR 351.221(b)(5).

Dated: August 13, 2024.
Ryan Majerus,
Deputy Assistant Secretary for Policy and Negotiations, performing the non-exclusive functions and duties of the Assistant Secretary for Enforcement and Compliance.

[FR Doc. 2024-18516 Filed 8-16-24; 8:45 am]

BILLING CODE 3510-DS-P